DEPARTMENT OF THE INTERIOR

Bureau of Land Management

[OR-65757; LLORB06000; L14300000.FR0000; HAG-09-0326]

Classification and Conveyance for Recreation and Public Purposes Act of Public Lands in Harney County, OR

AGENCY: Bureau of Land Management, Interior.

ACTION: Notice of Realty Action.

SUMMARY: The Bureau of Land Management (BLM) has examined and found suitable for classification and conveyance under the provisions of the Recreation and Public Purposes Act (R&PP), as amended, approximately 2.5 acres of public land in Harney County, Oregon. South Harney County School District #33 in Fields, Oregon, applied to purchase 2.5 acres of the land for hazardous material storage and a parking lot for the school.

DATES: Interested parties may submit written comments regarding the conveyance or classification of the lands by close of business on March 4, 2010.

ADDRESSES: Mail written comments to Joan M. Suther, Andrews/Steens Field Manager, BLM, Burns District Office, 28910 Highway 20 West, Hines, Oregon 97738.

FOR FURTHER INFORMATION CONTACT: Holly M. Orr, Realty Specialist, (541) 573-4501.

SUPPLEMENTARY INFORMATION: In accordance with Section 7 of the Taylor Grazing Act, (43 U.S.C. 315f) and Executive Order No. 6910, the following described public land in Harney County, Oregon, has been examined and found suitable for classification conveyance under the provisions of the R&PP Act, as amended, (43 U.S.C. 869 et seq.):

Willamette Meridian, Oregon

T. 38 S., R. 34 E.,

Section 24, SW¼SW¼NW¼NE¼.

The area described contains 2.5 acres, more or less, in Harney County.

In accordance with the R&PP Act, South Harney County School District #33 filed an application for the above-described 2.5 acres of public land to store hazardous materials and develop a parking area for the school. Additional detailed information pertaining to this application and site plan can be reviewed in case file OR-65757 located in the BLM Burns District Office at the above address.

Pursuant to the requirements established by section 120(h) of the Comprehensive Environmental Response, Compensation and Liability Act, 42 U.S.C. 9620(h), as amended by the Superfund Amendments and Reauthorization Act of 1988, 100 Stat. 1670, notice is hereby given that the above-described lands have been examined and no evidence was found to indicate that any hazardous substances have been stored for 1 year or more, nor had any hazardous substances been disposed of or released on the property.

The conveyance of this parcel is consistent with the BLM Andrews Management Unit Resource Management Plan and Record of Decision (August 2005), page RMP-61, which states that the land may be disposed of by R&PP sale for community expansion purposes not to exceed 10 acres per transaction and that such disposal would be in the public interest. The conveyance, when issued, will be subject to the following terms, conditions, and reservations:

1. Provisions of the R&PP Act and applicable regulations of the Secretary of the Interior;

2. A right-of-way thereon for ditches or canals constructed by the authority of the United States, Act of August 30, 1890 (43 U.S.C. 945);

3. Valid existing rights. Subject to limitations prescribed by law and regulation, and prior to patent issuance, a holder of any right-of-way within the land sale area will be given the opportunity to amend the right-of-way for conversion to a new term, including perpetuity, if applicable;

4. The United States maintains ownership of all minerals, together with the right to prospect for, mine, and remove such deposits from the same under applicable law and such regulations as the Secretary of the Interior may prescribe;

5. An appropriate indemnification clause protecting the United States from claims arising out of the patentee's use, occupancy, or operation of the premises will be included; and

6. Any other terms and conditions deemed necessary or appropriate by the Authorized Officer.

On February 2, 2010, the land described above will be segregated from all other forms of appropriation under the public land laws, including the general mining laws, except for conveyance under the R&PP Act, leasing under the mineral leasing laws, and disposals under the mineral material disposal laws.

Interested parties may submit comments involving the suitability of the land for a school and related facilities. Comments on the classification should be limited to whether the land is physically suited for the proposals, whether the use will maximize future uses of the land, whether the use is consistent with local planning and zoning, or whether the use is consistent with state and Federal programs.

Interested parties may also submit comments regarding other proposed decisions for the R&PP application and site plan, whether the BLM followed proper administrative procedures in reaching the decision to convey the land under the R&PP Act, or any other factor not directly related to the suitability of the land for R&PP use.

Only written comments submitted via the U.S. Postal Service or other delivery services, or hand-delivered to the Andrews/Steens Field Manager, BLM Burns District Office, will be considered properly filed. Electronic mail, facsimile, or telephone comments will not be considered properly filed. Comments, including names and addresses of respondents, will be available for public review. Before including your address, telephone number, e-mail address, or other personal identifying information in your comment, be advised that your entire comment—including your personal identifying information—may be made publicly available at any time. While you can ask us in your comment to withhold your personal identifying information from public review, we cannot guarantee that we will be able to do so.

Any adverse comments will be reviewed by the BLM Oregon State Director. In the absence of any adverse comments, the classification of the land described in this notice will become effective on April 5, 2010. The land will not be available for conveyance until after the classification becomes effective.

Authority: 43 CFR 2741.5.

Cathie Jensen,
Acting Chief, Branch of Land and Mineral Resources.

[FR Doc. 2010-2130 Filed 2-1-10; 8:45 am]

BILLING CODE 4310-33-P